FEDERAL COMMUNICATIONS COMMISSION

[MB Docket No. 06-121]

2006 Quadrennial Regulatory Review

AGENCY: Federal Communications Commission.

ACTION: Notice of meeting.

SUMMARY: The Federal Communications Commission will hold a field hearing regarding media ownership in Los Angeles, California on October 3, 2006. The purpose of the hearing is to fully involve the public in the process of the 2006 Quadrennial Broadcast Media Ownership Review that the Commission is currently conducting.

DATES: Part One of the hearing will be held on Tuesday, October 3, 2006, from 1 p.m.-4:30 p.m. Part Two of the hearing will be held on Tuesday, October 3, 2006, from 6:30 p.m.-10 p.m.

ADDRESSES: Part One of the hearing will be held at the University of Southern California (USC) in the Embassy Room of the Davidson Conference Center, 3415 South Figueroa Street, Los Angeles, CA 90089. Part Two of the hearing will be held at El Segundo High School, 640 Main Street, El Segundo, CA 90245.

FOR FURTHER INFORMATION CONTACT: Rebecca Fisher, at 202-418-2359, or David Fiske, at 202-418-0513.

SUPPLEMENTARY INFORMATION: The Federal Communications Commission will hold a field hearing regarding media ownership in Los Angeles, California on October 3, 2006. Part One of the hearing will be held on Tuesday, October 3, 2006, from 1 p.m.-4:30 p.m at the University of Southern California. Part Two of the hearing will be held on Tuesday, October 3, 2006, from 6:30 p.m.-10 p.m at El Segundo High School. The Commission appreciates the invitations from these two communities in the Los Angeles area. The purpose of the hearing is to fully involve the public in the process of the 2006 Quadrennial Broadcast Media Ownership Review that the Commission is currently conducting. The hearing is open to the public, and seating will be available on a first-come, first-served basis. This hearing is the first in a series of media ownership hearings the Commission intends to hold across the country. A final roster of panelists will be released prior to the hearing. The hearing format will enable members of the public to participate via “open microphone.” The hearing format is as follows:

USC

1 p.m. Welcome/Opening Remarks

1:30 p.m. Panel Discussion—Creative Community/Independent Programming

2:30 p.m. Public Comments

4:15 p.m. Wrap-Up

4:30 p.m. Temporary Adjournment

El Segundo High School

6:30 p.m. Opening Remarks

6:45 p.m. Panel Discussion—Market Overview/LA Case Study

7:45 p.m. Public Comments

9:45 p.m. Wrap-Up

10 p.m. Adjournment

Open captioning and sign language interpreters will be provided for this event. Other reasonable accommodations for people with disabilities are available upon request. Include a description of the accommodation needed, and include a way we can contact you if we need more information. Please make your request as early as possible. Last minute requests will be accepted, but may be impossible to fill. Send an e-mail to fcc504@fcc.gov or call the Consumer & Governmental Affairs Bureau at 202-418-0530 (voice), 202-418-0432 (tty).

A live audio cast of the hearing will be available at the FCC's Web site at http://www.fcc.gov on a first-come, first-served basis. Live video Web cast, if available, will be announced prior to the hearing. The public may also file comments or other documents with the Commission and should reference docket number 06-121. Filing instructions are provided at http://www.fcc.gov/ownership/comments.html.

Federal Communications Commission.
Marlene H. Dortch,
Secretary.

[FR Doc. E6-16206 Filed 9-29-06; 8:45 am]

BILLING CODE 6712-01-P